ENVIRONMENTAL PROTECTION AGENCY

[FRL-9950-56-Region 1]

Notice of Availability of Draft NPDES General Permits for Discharges From Potable Water Treatment Facilities in Massachusetts and New Hampshire: The Potable Water Treatment Facility General Permit

AGENCY: Environmental Protection Agency.

ACTION: Notice of availability of draft NPDES general permits MAG640000 and NHG640000.

SUMMARY: The Director of the Office of Ecosystem Protection, U.S. Environmental Protection Agency—Region 1 (EPA), is providing a notice of availability of the draft National Pollutant Discharge Elimination System (NPDES) General Permits (GP) for discharges from potable water treatment facilities (PWTF) to certain waters of the Commonwealth of Massachusetts and the State of New Hampshire. The draft General Permits establish Notice of Intent (NOI) requirements, effluent limitations, standard and special conditions, prohibitions, and best management practices (BMPs) for sites with discharges from potable water treatment facilities. These General Permits replace the previous PWTF GP that expired on October 2, 2014.

DATES: Comments on the draft General Permits must be received on or before September 9, 2016.

ADDRESSES: Written comments on the draft General Permits may be mailed to U.S. EPA Region 1, Office of Ecosystem Protection, Attn: Glenda Velez, 5 Post Office Square, Suite 100, Mail Code: OEP06-1, Boston, Massachusetts 02109-3912, or sent via email to velez.glenda@epa.gov. No facsimiles (faxes) will be accepted.

The draft PWTF GP is based on an administrative record available for public review at EPA-Region 1, Office of Ecosystem Protection, 5 Post Office Square, Suite 100, Boston, Massachusetts 02109-3912. A reasonable fee may be charged for copying requests. The fact sheet for the draft PWTF GP sets forth principal facts and the significant factual, legal, methodological and policy questions considered in the development of the draft General Permit and is available upon request.

FOR FURTHER INFORMATION CONTACT: Additional information concerning the draft General Permits may be obtained between the hours of 9 a.m. and 5 p.m. Monday through Friday, excluding holidays, from Glenda Velez, U.S. EPA Region 1, 5 Post Office Square, Suite 100, Mail Code OEP06-1, Boston, MA 02109-3912; telephone: 617-918-1677; email: velez.glenda@epa.gov.

SUPPLEMENTARY INFORMATION:

Public Comment Information: Interested persons may submit written comments on the draft General Permits to the EPA-Region I at the address listed above. Within the comment period, interested persons may also request, in writing, that EPA hold a public hearing pursuant to 40 CFR 124.12, concerning the draft General Permits. Such requests shall state the nature of the issues proposed to be raised at the hearing. A public hearing may be held at least thirty days after public notice whenever the Regional Administrator finds that response to this notice indicates significant public interest. In reaching a final decision on this draft permit, the Regional Administrator will respond to all significant comments and make responses available to the public at EPA's Boston office. All comments and requests for public hearings must be postmarked or delivered by the close of the public comment period.

General Information: EPA is proposing to reissue two general permits for wastewater discharges from potable water treatment facilities in Massachusetts and New Hampshire, that are generally less than or equal to 1.0 million gallons per day (MGD) and that use one or more of the following treatment processes: Clarification, Coagulation, Media Filtration, Membrane filtration (not including reverse osmosis), and Disinfection. While the draft General Permits are two distinct permits, for convenience, EPA has grouped them together in a single document and has provided a single fact sheet. This document refers to the draft General “Permit” in the singular. The draft General Permit, fact sheet, and appendices are available at: http://www.epa.gov/region1/npdes/pwtfgp.html.

The draft general permit includes effluent limitations and requirements based on technology-based considerations, best professional judgment (BPJ), and water quality considerations. The effluent limits established in the draft General Permit assure that the surface water quality standards of the receiving water(s) are attained and/or maintained. The permit also contains BMP requirements in order to ensure EPA has the information necessary to ensure compliance and to ensure discharges meet water quality standards.

Obtaining Authorization: In order to obtain authorization to discharge, operators must submit a complete and accurate NOI containing the information in Appendix IV of the draft General Permit. Facilities currently authorized to discharge under the Expired PWTF GP must submit a NOI within 90 days of the effective date of the final General Permit. Operators with new discharges must submit a NOI at least 60 days prior to initiating discharges and following the effective date of the final General Permit. Facilities with existing discharges that were not authorized under the Expired PWTF GP and which use aluminum in their treatment process must conduct more extensive water quality sampling data and submit this information with the NOI within 6 months of the effective date of the final General Permit.

Operators must meet the eligibility requirements of the General Permit prior to submission of a NOI. An operator will be authorized to discharge under the General Permit upon receipt of written notice from EPA following EPA's web posting of the submitted NOI. EPA will authorize the discharge, request additional information, or require the operator to apply for an alternative permit or an individual permit. The effective date of the final General Permit will be specified in the Federal Register publication of the Notice of Availability of the final permit.

Other Legal Requirements: Endangered Species Act (ESA): EPA has updated the provisions and necessary actions and documentation related to potential impacts to endangered species from facilities seeking coverage under the PWTF GP. EPA has requested concurrence from the appropriate federal services (U.S. Fish and Wildlife Service and National Marine Fisheries Service) in connection with this draft General Permit.

National Historic Preservation Act (NHPA): In accordance with NHPA, EPA has established provisions and documentation requirements for sites seeking coverage under the PWTF GP to ensure that discharges or actions taken under this General Permit will not adversely affect historic properties and places.

Authority: This action is being taken under the Clean Water Act, 33 U.S.C. 1251 et seq.

Dated: August 1, 2016.
H. Curtis Spalding,
Regional Administrator, Region 1.

[FR Doc. 2016-19028 Filed 8-9-16; 8:45 am]

BILLING CODE 6560-50-P